DEPARTMENT OF TRANSPORTATION

Federal Aviation Administration

14 CFR Part 39

[Docket No. FAA-2025-3427; Project Identifier MCAI-2025-01344-T; Amendment 39-23166; AD 2025-20-13]

RIN 2120-AA64

Airworthiness Directives; Airbus SAS Airplanes

AGENCY: Federal Aviation Administration (FAA), DOT.

ACTION: Final rule; request for comments.

SUMMARY: The FAA is adopting a new airworthiness directive (AD) for all Airbus SAS Model A330-200, A330-200 Freighter, A330-300, A340-200, A340-300, A340-500, and A340-600 series airplanes. This AD was prompted by the determination that, during flight with landing gear down, the brake system accumulators and shut-off valve (SOV) protecting the brake accumulators might be exposed to a temperature lower than the one for which the accumulator and SOV are qualified. This AD is also prompted by the determination that, if an airplane is dispatched under existing conditions associated with the “L/G Retraction Fault” alert, operations for Constant Speed Motor/Generator (CSM/G) will be prevented. This AD requires revising the existing airplane flight manual (AFM) to incorporate new procedures for flight with landing gear down and the existing minimum equipment list (MEL) to prevent dispatch with an “L/G Retraction Fault” alert. The FAA is issuing this AD to address the unsafe condition on these products.

DATES: This AD is effective October 17, 2025.

The Director of the Federal Register approved the incorporation by reference of a certain publication listed in this AD as of October 17, 2025.

The FAA must receive comments on this AD by November 17, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-3427; or in person at Docket Operations between 9 a.m. and 5 p.m., Monday through Friday, except Federal holidays. The AD docket contains this final rule, the mandatory continuing airworthiness information (MCAI), any comments received, and other information. The street address for Docket Operations is listed above.

Material Incorporated by Reference:

• For European Union Aviation Safety Agency (EASA) material identified in this AD, contact EASA, Konrad-Adenauer-Ufer 3, 50668 Cologne, Germany; telephone +49 221 8999 000; email ADs@easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2025-3427.

FOR FURTHER INFORMATION CONTACT: Frank Carreras, Aviation Safety Engineer, FAA, 2200 South 216th St., Des Moines, WA 98198; phone: 206-231-3539; email: Frank.Carreras@faa.gov.

SUPPLEMENTARY INFORMATION:

Comments Invited

The FAA invites you to send any written data, views, or arguments about this final rule. Send your comments using a method listed under the ADDRESSES section. Include “Docket No. FAA-2025-3427; Project Identifier MCAI-2025-01344-T” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Frank Carreras, Aviation Safety Engineer, FAA, 2200 South 216th St., Des Moines, WA 98198; phone: 206-231-3539; email: Frank.Carreras@faa.gov. Any commentary that the FAA receives which is not specifically designated as CBI will be placed in the public docket for this rulemaking.

Background

EASA, which is the Technical Agent for the Member States of the European Union, has issued EASA AD 2025-0175, dated August 8, 2025 (EASA AD 2025-0175) (also referred to as the MCAI), to correct an unsafe condition for all Airbus SAS Model A330-200, A330-200 Freighter, A330-300, A340-200, and A340-300 series airplanes; and Model A340-541, A340-542, A340-642, and A340-643 airplanes. Model A340-542 and A340-643 airplanes are not certificated by the FAA and are not included on the U.S. type certificate data sheet; this AD therefore does not include those airplanes in the applicability. The MCAI states that during certification activity of revenue flight landing gear down (RFLGD) operations for the Beluga XL (i.e., Model A330-743L) airplanes, it was determined that the brake system accumulators might be exposed to a temperature lower than the one for which the accumulator is qualified. The landing gear system for the Model A330-743L airplane is similar in design to that on the Model A330-200, A330-200 Freighter, A330-300, A340-200, A340-300, A340-500, and A340-600 series airplanes. It was also determined, in the case of loss of the blue hydraulic system, that the SOV protecting the brake accumulators from internal hydraulic pressure loss could be identically affected while performing RFLGD operations. Each of these conditions, if not corrected, could lead to damage to the brake accumulator bladder and loss of SOV function, possibly resulting in the loss of emergency braking and consequent damage to the airplane. The MCAI also states that it was determined that, if an airplane is dispatched under master minimum equipment list (MMEL) conditions associated with the Electronic Centralized Aircraft Monitor (ECAM) “L/G RETRACTION FAULT” alert message, operations for Constant Speed Motor/Generator (CSM/G) (i.e., emergency power supply) will be prevented. This condition, if not corrected, would, after a total engine flame out, lead to total loss of electrical power and consequent loss of control of the airplane.

The FAA is issuing this AD to address the unsafe condition on these products.

You may examine the MCAI in the AD docket at regulations.gov under Docket No. FAA-2025-3427.

Material Incorporated by Reference Under 1 CFR Part 51

The FAA reviewed EASA AD 2025-0175, which specifies procedures for revising the existing AFM to incorporate new procedures for flight with landing gear down and the existing MMEL to prevent dispatch with a “L/G Retraction Fault” alert. This material is reasonably available because the interested parties have access to it through their normal course of business or by the means identified in the ADDRESSES section.

FAA's Determination

These products have been approved by the civil aviation authority of another country and are approved for operation in the United States. Pursuant to the FAA's bilateral agreement with this State of Design Authority, that authority has notified the FAA of the unsafe condition described in the MCAI referenced above. The FAA is issuing this AD after determining that the unsafe condition described previously is likely to exist or develop on other products of the same type design.

Requirements of This AD

This AD requires accomplishing the actions specified in EASA AD 2025-0175 described previously, except for any differences identified as exceptions in the regulatory text of this AD.

Compliance With AFM and MEL Revisions

EASA AD 2025-0175 requires operators to “inform all flight crews” of revisions to the AFM and MEL, and thereafter to “operate the aeroplane accordingly.” However, this AD does not specifically require those actions as those actions are already required by FAA regulations. FAA regulations require operators furnish to pilots any changes to the AFM (for example, 14 CFR 121.137) and to ensure the pilots are familiar with the AFM (for example, 14 CFR 91.505). As with any other flightcrew training requirement, training on the updated AFM content is tracked by the operators and recorded in each pilot's training record, which is available for the FAA to review. FAA regulations also require pilots to follow the procedures in the existing AFM including all updates. Section 91.9 requires that any person operating a civil aircraft must comply with the operating limitations specified in the AFM. FAA regulations (§ 121.628(a)(2)) require operators to provide pilots with access to all the information contained in the operator's MEL. Furthermore, § 121.628(a)(5) requires airplanes to be operated under all applicable conditions and limitations contained in the operator's MEL. Therefore, including a requirement in this AD to operate the airplane according to the revised AFM and MEL would be redundant and unnecessary.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2025-0175 is incorporated by reference in this AD. This AD requires compliance with EASA AD 2025-0175 in its entirety through that incorporation, except for any differences identified as exceptions in the regulatory text of this AD. Using common terms that are the same as the heading of a particular section in EASA AD 2025-0175 does not mean that operators need comply only with that section. For example, where the AD requirement refers to “all required actions and compliance times,” compliance with this AD requirement is not limited to the section titled “Required Action(s) and Compliance Time(s)” in EASA AD 2025-0175. Material required by EASA AD 2025-0175 for compliance will be available at regulations.gov under Docket No. FAA-2025-3427 after this AD is published.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because, if an airplane is dispatched with the landing gear retraction system inoperative and “L/G Retraction Fault” alert under existing MEL conditions, and a total engine flame out occurs, this could lead to total loss of electrical power and consequent loss of control of the airplane. Further, if an airplane is operating with landing gear down, the brake system accumulators, and the SOV protecting the brake accumulators from internal hydraulic pressure loss, could be exposed to a temperature lower than one for which the accumulator and SOV are qualified, which could lead to damage to the brake accumulator bladder and loss of SOV function and result in the loss of emergency braking and consequent damage to the airplane. Additionally, the compliance time in this AD is shorter than the time necessary for the public to comment and for publication of the final rule. Accordingly, notice and opportunity for prior public comment are impracticable and contrary to the public interest pursuant to 5 U.S.C. 553(b).

In addition, the FAA finds that good cause exists pursuant to 5 U.S.C. 553(d) for making this amendment effective in less than 30 days, for the same reasons the FAA found good cause to forgo notice and comment.

Regulatory Flexibility Act (RFA)

The requirements of the RFA do not apply when an agency finds good cause pursuant to 5 U.S.C. 553 to adopt a rule without prior notice and comment. Because the FAA has determined that it has good cause to adopt this rule without notice and comment, RFA analysis is not required.

Costs of Compliance

The FAA estimates that this AD affects 153 airplanes of U.S. registry. The FAA estimates the following costs to comply with this AD:

Estimated Costs for Required Actions
Labor cost | Parts cost | Cost per product | Cost on U.S. operators
2 work-hours × $85 per hour = $170 | $0 | $170 | $26,010

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-20-13 Airbus SAS: Amendment 39-23166; Docket No. FAA-2025-3427; Project Identifier MCAI-2025-01344-T.

(a) Effective Date

This airworthiness directive (AD) is effective October 17, 2025.

(b) Affected ADs

None.

(c) Applicability

This AD applies to all Airbus SAS airplanes specified in paragraphs (c)(1) through (7), certificated in any category.

(1) Model A330-201, -202, -203, -223, and -243 airplanes.

(2) Model A330-223F and -243F airplanes.

(3) Model A330-301, -302, -303, -321, -322, -323, -341, -342, and -343 airplanes.

(4) Model A340-211, -212, and -213 airplanes.

(5) Model A340-311, -312, and -313 airplanes.

(6) Model A340-541 airplanes.

(7) Model A340-642 airplanes.

(d) Subject

Air Transport Association (ATA) of America Code 32, Landing Gear.

(e) Unsafe Condition

This AD was prompted by the determination that, during flight with landing gear down, the brake system accumulators, and the shut-off valve (SOV) protecting the brake accumulators from internal hydraulic pressure loss, might be exposed to a temperature lower than the one for which the accumulator and SOV are qualified. The FAA is issuing this AD to address damage to the brake accumulator bladder and loss of SOV function, possibly resulting in the loss of emergency braking and consequent damage to the airplane. This AD is also prompted by the determination that, if an airplane is dispatched under existing conditions associated with the “L/G Retraction Fault” alert, operations for Constant Speed Motor/Generator (CSM/G) will be prevented. This condition, if not corrected, would, after a total engine flame out, lead to total loss of electrical power and consequent loss of control of the airplane.

(f) Compliance

Comply with this AD within the compliance times specified, unless already done.

(g) Requirements

Except as specified in paragraph (h) of this AD: Comply with all required actions and compliance times specified in, and in accordance with, European Union Aviation Safety Agency (EASA) AD 2025-0175, dated August 8, 2025 (EASA AD 2025-0175).

(h) Exceptions to EASA AD 2025-0175

(1) Where EASA AD 2025-0175 refers to its effective date, this AD requires using the effective date of this AD.

(2) Where paragraph (1) of EASA AD 2025-0175 specifies to “implement the instructions of the MMEL update”, this AD requires replacing that text with “revise the operator's existing FAA-approved minimum equipment list (MEL) by incorporating the information identified in “the MMEL update” ”.

(3) Where paragraph (1) of EASA AD 2025-0175 specifies to “inform all flight crews, and thereafter, operate the aeroplane accordingly,” and where paragraph (3) of EASA AD 2025-0175 specifies to “inform all flight crews and, thereafter, operate the aeroplane accordingly,” this AD does not require those actions as those actions are already required by existing FAA operating regulations (see 14 CFR 91.9, 91.505, 121.137, and 121.628(a)(2) and (5)).

(4) Where paragraph (3) of EASA AD 2025-0175 specifies to “implement the AFM update”, this AD requires replacing that text with “revise the existing AFM by incorporating the applicable information identified in “the AFM update” ”.

(5) This AD does not adopt the “Remarks” section of EASA AD 2025-0175.

(i) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (j) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or EASA; or Airbus SAS's EASA Design Organization Approval (DOA). If approved by the DOA, the approval must include the DOA-authorized signature.

(j) Additional Information

For more information about this AD, contact Frank Carreras, Aviation Safety Engineer, FAA, 2200 South 216th St., Des Moines, WA 98198; phone: 206-231-3539; email: Frank.Carreras@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2025-0175, dated August 8, 2025.

(ii) [Reserved]

(3) For EASA material identified in this AD, contact EASA, Konrad-Adenauer-Ufer 3, 50668 Cologne, Germany; telephone +49 221 8999 000; email ADs@easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on September 29, 2025.
Lona C. Saccomando,
Acting Deputy Director, Integrated Certificate Management Division, Aircraft Certification Service.

[FR Doc. 2025-19417 Filed 9-30-25; 4:15 pm]

BILLING CODE 4910-13-P